DEPARTMENT OF TRANSPORTATION

Maritime Administration

[Docket No. MARAD-2019-0095]

Deepwater Port License Application: West Delta LNG LLC

AGENCY: Maritime Administration, Department of Transportation.

ACTION: Notice of Application.

SUMMARY: The Maritime Administration (MARAD) and the U.S. Coast Guard (USCG) announce they have received an application from West Delta LNG LLC (Applicant) for the licensing of a deepwater port and that the application for the West Delta LNG deepwater port (West Delta LNG) contains information sufficient to commence processing. This notice summarizes the Applicant's plans and the procedures that will be followed in considering the application.

DATES: The Deepwater Port Act of 1974, as amended, requires at least one public hearing on this application to be held in the designated Adjacent Coastal State(s) not later than 240 days after publication of this notice, and a decision on the application not later than 90 days after the final public hearing(s).

ADDRESSES: The public docket for the West Delta LNG deepwater port license application is maintained by the U.S. Department of Transportation, Docket Management Facility, West Building, Ground Floor, Room W12-140, 1200 New Jersey Avenue SE, Washington, DC 20590. The license application is available for viewing at the Regulations.gov website: http://www.regulations.gov under docket number MARAD-2019-0095.

We encourage you to submit comments electronically through the Federal eRulemaking Portal at http://www.regulations.gov. Alternatively, comments may be mailed to the public docket at the address listed above or faxed to 202-493-2251. Comments that are sent to the docket should include the docket number, which is MARAD-2019-0095.

If you submit your comments electronically, it is not necessary to also submit a hard copy. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251. If you cannot submit material using http://www.regulations.gov, please contact either Mr. Matthew Layman, USCG or Ms. Yvette Fields, MARAD, as listed in the following FOR FURTHER INFORMATION CONTACT section of this document.

FOR FURTHER INFORMATION CONTACT: Mr. Matthew Layman, U.S. Coast Guard, telephone: 202-372-1421, email: Matthew.D.Layman@uscg.mil, or Ms. Yvette Fields, Maritime Administration, telephone: 202-366-0926, email: Yvette.Fields@dot.gov. For questions regarding viewing the Docket, call Docket Operations, telephone: 202-366-9317 or 202-366-9826.

SUPPLEMENTARY INFORMATION:

Receipt of Application

On August 28, 2019, MARAD and USCG received an application from the Applicant for all Federal authorizations required for a license to own, construct, and operate a deepwater port for the export of natural gas as authorized by the Deepwater Port Act of 1974, as amended, 33 U.S.C. 1501 et seq. (the Act), and implemented under 33 Code of Federal Regulations (CFR) Parts 148, 149, and 150. After a coordinated completeness review by MARAD, the USCG, and other cooperating Federal agencies, the application is deemed complete and contains information sufficient to initiate processing.

Background

The Act defines a deepwater port as any fixed or floating manmade structure other than a vessel, or any group of such structures, that are located beyond State seaward boundaries and used or intended for use as a port or terminal for the transportation, storage, and further handling of oil or natural gas for transportation to, or from, any State. A deepwater port includes all components and equipment, including pipelines, pumping or compressor stations, service platforms, buoys, mooring lines, and similar facilities that are proposed as part of a deepwater port to the extent they are located seaward of the high-water mark.

The Secretary of Transportation delegated to the Maritime Administrator authorities related to licensing deepwater ports (49 CFR 1.93(h)). Statutory and regulatory requirements for processing applications and licensing appear in 33 U.S.C. 1501 et seq. and 33 CFR part 148. Under delegations from, and agreements between, the Secretary of Transportation and the Secretary of Homeland Security, applications are jointly processed by MARAD and USCG. Each application is considered on its merits.

In accordance with 33 U.S.C. 1504(f) for all applications, MARAD and the USCG, working in cooperation with other involved Federal agencies and departments, shall comply with the requirements of the National Environmental Policy Act (NEPA) of 1969 (42 U.S.C. 4321 et seq.). The U.S. Environmental Protection Agency (EPA), the U.S. Army Corps of Engineers (USACE), the National Oceanic and Atmospheric Administration (NOAA), the Bureau of Ocean Energy Management (BOEM), the Bureau of Safety and Environmental Enforcement (BSEE), and the Pipeline and Hazardous Materials Safety Administration (PHMSA), among others, participate in the processing of deepwater port applications and assist in the NEPA process as described in 40 CFR 1501.6. Each agency may participate in scoping and/or other public meeting(s), and may incorporate the MARAD/USCG environmental impact review for purposes of their jurisdictional permitting processes, to the extent applicable. Comments related to this deepwater port application addressed to the EPA, USACE, or other federal agencies should note the federal docket number, MARAD-2019-0095. Each comment will be incorporated into the Department of Transportation (DOT) docket and considered as the environmental impact analysis is developed to ensure consistency with the NEPA process.

All connected actions, permits, approvals and authorizations will be considered during the processing of the West Delta LNG deepwater port license application.

MARAD, in issuing this Notice of Application pursuant to 33 U.S.C. 1504(c), must designate as an “Adjacent Coastal State” any coastal state which (A) would be directly connected by pipeline to a deepwater port as proposed in an application, or (B) would be located within 15 nautical miles of any such proposed deepwater port (see 33 U.S.C. 1508(a)(1)). Pursuant to the criteria provided in the Act, Louisiana is the designated Adjacent Coastal State for this application. Other states may request from the Maritime Administrator designation as an Adjacent Coastal State in accordance with 33 U.S.C. 1508(a)(2).

The Act directs that at least one public hearing take place in each Adjacent Coastal State, in this case, Louisiana. Additional public meetings may be conducted to solicit comments for the environmental analysis to include public scoping meetings, or meetings to discuss the Draft and Final Environmental Impact Statement documents prepared in accordance with NEPA.

MARAD, in coordination with the USCG, will publish additional Federal Register notices with information regarding these public meeting(s) and hearing(s) and other procedural milestones, including the NEPA environmental impact review. The Maritime Administrator's decision, and other key documents, will be filed in the public docket for the application at docket number MARAD-2019-0095.

The Act imposes a strict timeline for processing an application. When MARAD and USCG determine that an application is complete (i.e., contains information sufficient to commence processing), the Act directs that all public hearings on the application be concluded within 240 days from the date the Notice of Application is published.

Within 45 days after the final hearing, the Governor of the Adjacent Costal State, in this case the Governor of Louisiana, may notify MARAD of their approval, approval with conditions, or disapproval of the application. If such approval, approval with conditions, or disapproval is not provided to the Maritime Administrator by that time, approval shall be conclusively presumed. MARAD may not issue a license without the explicit or presumptive approval of the Governor of the Adjacent Coastal State. During this 45-day period, the Governor may also notify MARAD of inconsistencies between the application and State programs relating to environmental protection, land and water use, and coastal zone management. In this case, MARAD may condition the license to make it consistent with such state programs (33 U.S.C. 1508(b)(1)). MARAD will not consider written approvals or disapprovals of the application from the Governor of the Adjacent Coastal State until after the final public hearing is complete and the 45-day period commences following the publication of the Final Environmental Impact Statement. The Maritime Administrator must render a decision on the application within 90 days after the final hearing.

Should a favorable record of decision be rendered and a license be issued, MARAD may include specific conditions related to design, construction, operations, environmental permitting, monitoring and mitigations, and financial responsibilities. If a license is issued, USCG in coordination with other agencies as appropriate, would review and approve the deepwater port's engineering, design, and construction; operations/security procedures; waterways management and regulated navigation areas; maritime safety and security requirements; risk assessment; and compliance with domestic and international laws and regulations for vessels that may call on the port. The deepwater port would be designed, constructed and operated in accordance with applicable codes and standards.

In addition, installation of pipelines and other structures may require permits under Section 404 of the Clean Water Act and Section 10 of the Rivers and Harbors Act, which are administered by the USACE.

Permits from the EPA may also be required pursuant to the provisions of the Clean Air Act, as amended, and the Clean Water Act, as amended.

Summary of the Application

The application proposes the ownership, construction, operation and eventual decommissioning of a deepwater port terminal in the Gulf of Mexico to export domestically produced natural gas. In the nominal design case, the Venice Pretreatment Plant would process approximately 750 million standard cubic feet per day (MMscfd) of feed natural gas for the proposed West Delta LNG deepwater port. Based on an estimated production unit availability of 95.4 percent and an allowance for consumption of feed gas during the liquefaction process, the proposed West Delta LNG deepwater port would nominally produce 5.0 MMtpa of liquefied natural gas (LNG) for export. In the optimized case, the proposed project would process approximately 900 MMscfd of feed natural gas to produce approximately 6.1 MMtpa of liquefied natural gas for export, or the equivalent of 306 billion standard cubic feet per year of LNG.

The trading carriers calling on the West Delta LNG deepwater port would have nominal cargo capacities ranging from 30,000 cubic meters (m³) to 180,000 m³. For trading carriers of 180,000 m³ capacity, the Applicant anticipates a steady state loading rate of 12,000 m³ that would allow a 24-hour turnaround period, including time for berthing, system connections, and custody transfer administration. For LNG trading carriers of 30,000 m³ capacity, the Applicant anticipates a shorter loading and turnaround time of 14 hours. The overall project would consist of offshore components as well as onshore components.

Offshore and Marine Components of the Deepwater Port

The West Delta LNG deepwater port offshore and marine components would consist of an LNG production and storage unit, a loading platform and marine berth unit and support facilities, as described below:

• The proposed deepwater port will consist of thirteen (13) fixed bridge connected platforms with piles in Outer Continental Shelf West Delta Lease Block 44, approximately 10.5 nautical miles off the coast of Plaquemines Parish, Louisiana in a water depth of approximately 57 to 60 feet, with the gas arrival platform located at latitude 29° 04′ 56.11″ N and longitude 89° 39′ 16.00″ W. Eleven (11) bridges would connect the platforms and marine berth and provide for piping, electrical, instrument/automation, and personnel transit between platforms.

• The LNG production and storage unit will contain a gas arrival platform where liquefaction-ready gas would be supplied by the Venice Pretreatment Plant described below and a proposed 30-inch subsea pipeline that would terminate at the gas arrival platform. The production platform will consist of three (3) LNG production platforms capable of accommodating a total of six (6) liquefaction trains (two [2] trains per platform), with each liquefaction train system consisting of one (1) 0.83-MMtpa liquefaction unit and one (1) ethane extraction system. Additionally, the West Delta LNG deepwater port would have five (5) LNG storage platforms outfitted with three (3) 20,000 m³ FSP storage tanks providing 60,000 m³ of LNG per storage platform for a total storage capacity of 300,000 m³. A flare tripod platform equipped with a flare stack, smokeless tips, and ignition system(s) and scrubbers would be provided to safely burn all vented gas.

• The West Delta LNG loading platform and marine berthing facilities will contain a loading arm system located on the LNG loading platform that would be used to load LNG onto a single LNG trading carrier. The loading and marine berth would be capable of handling LNG trading carriers with nominal capacities ranging from 30,000 m³ up to 180,000 m³. The West Delta LNG deepwater port would include six (6) mooring dolphins and four (4) breasting dolphins. Breasting dolphins and mooring dolphins are marine structures used for berthing and mooring of vessels.

• The support facilities will contain an accommodation platform for West Delta LNG personnel and shall include living quarters for up to 36 people, a control station, helideck, and an auxiliary command room. All main power and essential power, other than the dedicated emergency generator located on the accommodations platform would be created and distributed from the utilities platform.

• The loading platform is connected to offshore liquefied natural gas tankers with a 180,000 m³ nominal capacity for loading by two (2) 16-inch (40.6-centimeter) diameter standard liquid arms; one (1) hybrid (liquid/vapor) 16-inch diameter arm; and one (1) 16-inch diameter standard vapor arm. Depending on manifold restrictions, two (2) liquid arms and one (1) vapor arm would be used to load the 30,000 m³ nominal capacity LNG trading carriers.

Onshore Components of the Deepwater Port

The West Delta LNG deepwater port onshore components would consist of the proposed Venice Pretreatment Plant, which would be located in Plaquemines Parish, Louisiana within the grounds of an existing 121-acre onshore natural gas processing facility known as the Venice Gas Complex. The onshore components are as follows:

• The Venice Pretreatment Plant would receive natural gas from offshore Gulf of Mexico midstream pipelines and/or interstate pipeline feed gas from pipelines already interconnected with the Venice Gas Complex. The natural gas would be pre-treated to meet liquefaction specifications, compressed onshore, and sent to the West Delta LNG offshore deepwater port.

• The proposed Venice Pretreatment Plant would contain the following major components for the pre-treatment and processing of sourced natural gas: Cryogenic trains to process offshore-sourced gas, natural gas compressors, gas pretreatment packages, power generation units driven by gas turbines, waste heat recovery units, utilities to support the new gas pretreatment and compression equipment and a flare to combust waste gas from the pretreatment process.

The onshore components connect to the offshore components by a single pipeline. This pipeline would be constructed to transfer the liquefaction-ready gas from the proposed onshore Venice Pretreatment Plant to the West Delta LNG deepwater port. The proposed pipeline's outgoing onshore assembly is a 4.3 statute mile 30-inch diameter connection from the Venice Pretreatment Plant (measured from the proposed pig launcher to the high water mark) where this pipeline becomes the subsea pipeline supplying the offshore deepwater port. At this point, the pipeline continues, extending 15.5 statute miles beyond the high water mark to terminate at the proposed West Delta LNG offshore deepwater port.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or by visiting www.regulations.gov.

(Authority: 33 U.S.C. 1501, et seq.; 49 CFR 1.93(h))

Dated: September 23, 2019.
By Order of the Maritime Administrator.
T. Mitchell Hudson, Jr.,
Secretary, Maritime Administration.

[FR Doc. 2019-20929 Filed 9-25-19; 8:45 am]

BILLING CODE 4910-81-P